DEPARTMENT OF TRANSPORTATION

Federal Highway Administration

Notice of Final Federal Agency Actions on Transportation Project in Washington State

AGENCY: Federal Highway Administration (FHWA), DOT.

ACTION: Notice of limitation on claims for Judicial Review of actions by FHWA.

SUMMARY: This notice announces actions taken by FHWA that are final. The action relates to the approval of the re-evaluation for the State Route (SR) 167 Completion Project in Pierce County, State of Washington.

DATES: By this notice, FHWA is advising the public of final Agency actions subject to 23 U.S.C. 139(l)(1). A claim seeking judicial review of the Federal agency actions on the listed highway project will be barred unless the claim is filed on or before September 9, 2019. If the Federal law that authorizes judicial review of a claim provides a time period of less than 150 days for filing such claim, then that shorter time period still applies.

FOR FURTHER INFORMATION CONTACT: For FHWA, contact Dean Moberg, Area Engineer, Washington Division, Federal Highway Administration, 711 S. Capitol Way, Suite 501, Olympia, WA 98501-1284, 360-534-9344, or Dean.Moberg@dot.gov. Regular office hours are from 8:00 a.m. to 4:30 p.m., Monday through Friday, except Federal holidays, or Megan White, Director, Environmental Services Office, Washington State Department of Transportation, 310 Maple Park Avenue SE, Olympia, WA 98504, 360-705-7480, or Megan.White@wsdot.wa.gov.

SUPPLEMENTARY INFORMATION: Notice is hereby given that the FHWA has taken final agency actions within the meaning of 23 U.S.C. 139(l)(1) by issuing a NEPA Re-Evaluation of the SR 167 Completion Project in the State of Washington. This Statute of Limitations notice applies only to decisions within the Re-Evaluation dated December 20, 2018. The SR 167 Completion Project will complete the SR 167 freeway by building approximately four miles of a new limited-access facility from its current terminus in Puyallup at SR 161 to Interstate 5 (I-5) in Fife. The project will also add approximately two miles of new limited-access facility from SR 509 near the Port of Tacoma to the proposed I-5 and SR 167 interchange near 70th Avenue E. The extension of SR 167 will be a new four-lane (two lanes in each direction) highway from SR 161 to I-5, and the “SR 509 Spur” will be a new four-lane (two lanes in each direction) highway from I-5 to 54th Avenue E. and a new two-lane (single lane in each direction) connection from 54th Avenue E to the existing SR 509 near the Port of Tacoma. The SR 167 Completion Project will be a tolled facility where all lanes will be tolled using two electronic toll points. One toll point will be located on SR 167 between I-5 and the proposed Valley Avenue interchange; the other toll point will be located on the SR 509 Spur between I-5 and the proposed 54th Avenue interchange. Both toll points will be located such that any user of the new SR 167 Completion Project will be charged a toll. The SR 167 Completion Project is a critical missing link in the State's highway network. The purpose of the proposed action is to improve regional highway connections with an extension of SR 167 to serve current and future transportation needs in northern Pierce County and to enhance regional freight mobility and access to Port of Tacoma. The SR 167 Completion Project improves transportation connections between urban and manufacturing centers in northern Pierce County for people and goods. Extending SR 167 will ease congestion on I-5 and local roadways, create system linkages, accommodate travel demand and capacity needs, and improve intermodal relationships. The actions by FHWA, and the laws under which such actions were taken, are described in the Re-Evaluation for the Project approved on December 20, 2018, and in other documents and project records. The Re-Evaluation and other project records are available from FHWA and WSDOT at the address provided above and can be found at: https://www.wsdot.wa.gov/Projects/SR167/completion/Publications.htm.

This notice applies to all Federal agency decisions related to the Re-Evaluation as of the issuance date of this notice and all laws under which such actions were taken, including but not limited to:

1. General: National Environmental Policy Act (NEPA) (42 U.S.C. 4321-4351); Federal-Aid Highway Act (23 U.S.C. 109 and 23 U.S.C. 128).

2. Air: Clean Air Act (42 U.S.C. 7401- 7671q).

3. Land: Section 4(f) of the Department of Transportation Act of 1966 (49 U.S.C. 303; 23 U.S.C. 138); Landscaping and Scenic Enhancement (Wildflowers) (23 U.S.C. 319).

4. Wildlife: Endangered Species Act (16 U.S.C. 1531-1544 and Section 1536); Marine Mammal Protection Act (16 U.S.C. 1361-1423h); Fish and Wildlife Coordination Act (16 U.S.C. 661-667d); Migratory Bird Treaty Act (16 U.S.C. 703-712).

5. Historic and Cultural Resources: Section 106 of the National Historic Preservation Act of 1966, as amended (16 U.S.C. 470f); Archeological Resources Protection Act of 1977 (16 U.S.C. 470aa-470mm); Archeological and Historic Preservation Act (16 U.S.C. 469-469c); Native American Grave Protection and Repatriation Act (NAGPRA) (25 U.S.C. 3001-3013).

6. Social and Economic: American Indian Religious Freedom Act (42 U.S.C. 1996); Farmland Protection Policy Act (FPPA) (7 U.S.C. 4201-4209).

7. Wetlands and Water Resources: Clean Water Act (Section 404, Section 401, Section 319) (33 U.S.C. 1251-1387); Land and Water Conservation Fund (LWCF) (16 U.S.C. 4601- 4604); Safe Drinking Water Act (SDWA) (42 U.S.C. 300f-300j-26)); Rivers and Harbors Act of 1899 (33 U.S.C. 401-406); Wild and Scenic Rivers Act (16 U.S.C. 1271-1287); Emergency Wetlands Resources Act, (16 U.S.C. 3901, 3921); Wetlands Mitigation (23 U.S.C. 119(g) and 133(b)(14)); Flood Disaster Protection Act, 42 U.S.C. 4012a, 4106).

8. Executive Orders: E.O. 11990 Protection of Wetlands; E.O. 11988 Floodplain Management; E.O. 12898, Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

9. Navigation: Rivers and Harbors Act of 1899 [33 U.S.C. 403]; General Bridge Act of 1946 [33 U.S.C. 9 and 11].

(Catalog of Federal Domestic Assistance Program Number 20.205, Highway Planning and Construction. The regulations implementing Executive Order 12372 regarding intergovernmental consultation on Federal programs and activities apply to this program.)

Authority: 23 U.S.C. 139(l)(1), as amended by Moving Ahead for Progress in the 21st Century Act, (PL 112-141, 126 Stat. 405).

Issued on: April 4, 2019.
Melinda Roberson,
FHWA Assistant Division Administrator, Olympia, WA.

[FR Doc. 2019-07185 Filed 4-11-19; 8:45 am]

BILLING CODE 4910-RY-P